INTERNATIONAL TRADE COMMISSION

[Inv. No. 337-TA-695]

In the Matter of: Certain Silicon Microphone Packages and Products Containing Same Designation of Investigation as “More Complicated”

AGENCY: U.S. International Trade Commission.

ACTION: Notice.

SUMMARY: Notice is hereby given that the presiding administrative law judge (“ALJ”) has designated the above-captioned investigation “more complicated.”

FOR FURTHER INFORMATION CONTACT: Michael Liberman, Office of the General Counsel, U.S. International Trade Commission, 500 E Street, SW., Washington, DC 20436, telephone 202-205-3112. Copies of non-confidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation under section 337 of the Tariff Act of 1930, 19 U.S.C. 1337 (“section 337”), on December 16, 2009, based on a complaint, as supplemented, filed by Knowles Electronic LLC of Itasca, Illinois alleging a violation of section 337 in the importation, sale for importation, and sale within the United States after importation of certain silicon microphone packages and products containing the same by reason of infringement of certain claims of U.S. Patent No. 6,781,231 (“the '231 patent”) and U.S. Patent No. 7,242,089 (“the '089 patent”). The complainant named Analog Devices Inc. of Norwood, MA as the respondent, and requested that the Commission find a violation of section 337 and issue an exclusion order and a cease and desist order. The complainant also filed a motion for temporary relief requesting that the Commission issue a temporary limited exclusion order and temporary cease and desist order prohibiting the importation into and the sale within the United States after importation of certain silicon microphone packages and products containing the same that infringe claim 1 of the '231 patent and claims 1, 2, 7, 15, 16, 17, 18, and 20 of the '089 patent during the pendency of the Commission's investigation.

On December 18, 2009, the ALJ issued Order No. 4 designating the investigation “more complicated” pursuant to Commission Rule 210.60, 19 CFR 210.60, on the basis of the complexity of the issues raised in the complainant's motion for temporary relief.

The authority for the Commission's determination is contained in section 337 of the Tariff Act of 1930, as amended (19 U.S.C. 1337), and in section 210.60 of the Commission's Rules of Practice and Procedure (19 CFR 210.60).

Issued: December 23, 2009.
By order of the Commission.
Marilyn R. Abbott,
Secretary to the Commission.

[FR Doc. E9-30878 Filed 12-29-09; 8:45 am]

BILLING CODE 7020-02-P